DEPARTMENT OF TRANSPORTATION

Federal Railroad Administration

[Docket No. FRA-2023-0002-N-27]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before January 5, 2024.

ADDRESSES: Written comments and recommendations for the proposed ICR should be submitted on regulations.gov to the docket, Docket No. FRA-2023-0002. All comments received will be posted without change to the docket, including any personal information provided. Please refer to the assigned OMB control number (2130-0564) in any correspondence submitted. FRA will summarize comments received in a subsequent 30-day notice and include them in its information collection submission to OMB.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Locomotive Crashworthiness.

OMB Control Number: 2130-0564.

Abstract: Under 49 CFR part 229, subpart D, FRA prescribes minimum crashworthiness standards for certain locomotives. These crashworthiness standards are intended to help protect locomotive cab occupants in the event of a train collision or derailment. FRA uses this collection of information to ensure railroads operate locomotives that meet the prescribed minimum performance standards and design load requirements for newly manufactured and re-manufactured locomotives.

In this 60-day notice, FRA makes adjustments that decrease the previously approved estimated total annual burden hours from 507 hours to 407 hours. These estimate adjustments reflect that FRA anticipates a decrease in the annual petition submissions for approval of substantive and non-substantive changes to locomotive crashworthiness design standards and alternative design standards under the following sections:

• Under § 229.207(c), FRA is decreasing the estimated annual burden hours by 33.50 hours.

• Under § 229.207(d), FRA is decreasing the estimated annual burden hours by 33.50 hours.

• Under § 229.209(b), FRA is decreasing the estimated annual burden hours by 33.50 hours.

Type of Request: Extension without change (with changes in estimates) of a currently approved collection.

Affected Public: Businesses/Public/Interested Parties.

Form(s): N/A.

Respondent Universe: 783 railroads, 4 locomotive manufacturers.

Frequency of Submission: On occasion; one-time.

Reporting Burden
CFR Section | Respondent universe | Total annual responses | Average time per responses | Total annual burden hours | Total cost equivalent in U.S. dollar
|  | (A) | (B) | (C = A * B) | (D = C * wage rates) ¹
229.207(b)—Petitions for FRA approval of new locomotive crashworthiness design standards | 783 railroads 4 locomotive manufacturers | 2.00 petitions | 50 hours | 100.00 | $8,593.00
—(c) Petition for FRA approval of substantive changes to FRA-approved locomotive crashworthiness design standard | 783 railroads 4 locomotive manufacturers | 0.33 petition | 50 hours | 16.50 | 1,417.85
—(d) Petition for FRA approval of non-substantive changes to existing FRA approved locomotive crashworthiness design standard | 783 railroads 4 locomotive manufacturers | 0.33 petition | 50 hours | 16.50 | 1,417.85
229.209(b)—Alternative locomotive crashworthiness designs—Petition for FRA approval | 783 railroads 4 locomotive manufacturers | 0.33 petition | 50 hours | 16.50 | 1,417.85
229.211(b)(3)—Processing petitions—Additional information for FRA to appropriately consider the petition | 783 railroads 4 locomotive manufacturers | 1.00 hearing | 24 hours | 24.00 | 2,062.32
229.213(a)(3)—Locomotive manufacturing information: retention by railroads | 783 railroads | 500 records/stickers/badge plates | 2 minutes | 16.67 | 1,432.45
229.215—(a) Retention and inspection of designs—Retention of records—Original designs | 4 locomotive manufacturers | 24 locomotive records | 8 hours | 192.00 | 16,498.56
—(b) Repairs and modifications—Records | 783 railroads | 6 locomotive crashworthiness modification/repair records | 4 hours | 24.00 | 2,062.32
—(c) Inspection of records | 783 railroads | 20 records | 2 minutes | 0.67 | 57.57
Total ² | 783 railroads | 554 responses | N/A | 407 | 34,960

Total Estimated Annual Responses: 554.

¹ The dollar equivalent cost is derived from the 2022 Surface Transportation Board Full Year Wage A&B data series using employee group 200: (Professional & Administrative), hourly wage rate of $49.10. The total burden wage rate (straight time plus 75%) used in the table is $85.93 ($49.10 × 1.75 = $85.93).

² Totals may not add up due to rounding.

Total Estimated Annual Burden: 407 hours.

Total Estimated Annual Burden Hour Dollar Cost Equivalent: $34,960.

FRA informs all interested parties that it may not conduct or sponsor, and a respondent is not required to respond to, a collection of information that does not display a currently valid OMB control number.

Authority: 44 U.S.C. 3501-3520.

Christopher S. Van Nostrand,
Acting Deputy Chief Counsel.

[FR Doc. 2023-24450 Filed 11-3-23; 8:45 am]

BILLING CODE 4910-06-P